DEPARTMENT OF HEALTH AND HUMAN SERVICES

Health Care Financing Administration

42 CFR Part 405

[HCFA-3432-N3]

RIN 0938-AJ31

Medicare Program; Criteria for Making Coverage Decisions; Extension of Comment Period

AGENCY: Health Care Financing Administration (HCFA), HHS.

ACTION: Notice of extension of comment period for notice of intent to publish a proposed rule.

SUMMARY: This document extends the comment period for the notice of intent published in the Federal Register on May 16, 2000, (65 FR 31124). In that document we announced our intention to publish a proposed rule and solicited advance public comments on the criteria we would use to make certain national coverage decisions and the criteria our contractors would use to make local coverage decisions.

DATES: The comment period is extended to 5 p.m. on July 17, 2000.

ADDRESSES: Mail written comments (one original and three copies) to the following address ONLY: Health Care Financing Administration, Department of Health and Human Services, Attention: HCFA-3432-NOI, P.O. Box 8016, Baltimore, MD 21244-8016.

If you prefer, you may deliver, by courier, your written comments (one original and three copies) to one of the following addresses:

Room 443-G, Hubert H. Humphrey Building, 200 Independence Avenue, SW., Washington, DC 20201, or

C5-14-03, Central Building, 7500 Security Boulevard, Baltimore, MD 21244-1850.

Comments mailed to those addresses may be delayed and received too late for us to consider them.

Because of staffing and resource limitations, we cannot accept comments by facsimile (FAX) transmission. In commenting, please refer to file code HCFA-3432-NOI. Comments received timely will be available for public inspection as they are received, generally beginning approximately 3 weeks after publication of a document, in Room 443-G of the Department's offices at 200 Independence Avenue, SW., Washington, DC, on Monday through Friday of each week from 8:30 a.m. to 5 p.m. (Phone: (202) 690-7890).

FOR FURTHER INFORMATION CONTACT: Susan Gleeson, (410) 786-0542.

SUPPLEMENTARY INFORMATION: On May 16, 2000, we issued a notice of intent to publish a proposed rule in the Federal Register (65 FR 31124). The comment period would close on June 15, 2000. Because of the scope of the notice of intent, several organizations that would be affected by the policies requested more time to analyze the potential consequences of the notice of intent. Therefore, we are extending the public comment period until July 17, 2000. We will also hold a Town Hall Meeting to facilitate public discussion. We will publish a Federal Register notice announcing the meeting specifics when available. This information will also be available on our web page @ www.hcfa.gov/quality.

Authority: Secs. 1102 and 1871 of the Social Security Act (42 U.S.C. 1302 and 1395hh).

(Catalog of Federal Domestic Assistance Program No. 93.773, Medicare—Hospital Insurance; and Program No. 93.774, Medicare—Supplementary Medical Insurance Program)
Dated: June 2, 2000.
Nancy-Ann Min DeParle,
Administrator, Health Care Financing Administration.
Approved: June 12, 2000.
Donna E. Shalala,
Secretary.

[FR Doc. 00-15198 Filed 6-14-00; 8:45 am]

BILLING CODE 4120-01-P